DEPARTMENT OF THE INTERIOR

Bureau of Land Management

[LLNVW00000.L14300000.ET0000 241A; NEV-051742; 11-08807; MO#4500012855; TAS: 14X1109]

Public Land Order No. 7761; Extension of Public Land Order No. 6849; Nevada

AGENCY: Bureau of Land Management, Interior.

ACTION: Public Land Order.

SUMMARY: This order extends the duration of the withdrawal created by Public Land Order No. 6849, as corrected, for an additional 20-year period. The extension is necessary for continued protection of the Sheldon National Wildlife Refuge in Washoe and Humboldt Counties, Nevada.

DATES: Effective Date: April 22, 2011.

FOR FURTHER INFORMATION CONTACT: Pamela C. Ridley, Bureau of Land Management, Nevada State Office, P.O. Box 12000, 1340 Financial Blvd., Reno, Nevada 89502, or 775-861-6530.

SUPPLEMENTARY INFORMATION: To maintain the purpose for which the withdrawal was first made, an extension is required for the U.S. Fish and Wildlife Service to continue to conserve and protect the sagebrush-steppe landscape for optimum populations of native plants and wildlife including pronghorn antelope, bighorn sheep, pygmy rabbits, and greater sage-grouse. The withdrawal extended by this order will expire on April 21, 2031, unless, as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6849 (56 FR 16278 (1991)), as corrected by Public Land Order No. 6907 (56 FR 57806 (1991)), 56 FR 24119 (1991), Public Land Order No. 6862 (56 FR 27692 (1991)), and 75 FR 74743 (2010), that withdrew 457,800 acres of the Sheldon National Wildlife Refuge from location under the United States mining laws (30 U.S.C. Ch. 2), but not from leasing under the mineral leasing laws, to protect the wildlife habitat and unique resource values, is hereby extended for an additional 20-year period until April 21, 2031.

Authority: 43 CFR 2310.4.

Dated: April 1, 2011.
Wilma A. Lewis,
Assistant Secretary—Land and Minerals Management.

[FR Doc. 2011-10012 Filed 4-25-11; 8:45 am]

BILLING CODE 4310-HC-P